DEPARTMENT OF LABOR

Employment and Training Administration

[TA-W-59,585]

Re-Source America, Inc.; Mebane, NC; Notice of Termination of Investigation

Pursuant to section 221 of the Trade Act of 1974, as amended, an investigation was initiated on June 20, 2006 in response to a worker petition filed by a company official on behalf of workers of Re-Source America, Inc., Mebane, North Carolina.

The petitioner has requested that the petition be withdrawn at this time. Consequently, the investigation has been terminated.

Signed at Washington, DC this 28th day of June 2006.
Linda G. Poole,
Certifying Officer, Division of Trade Adjustment Assistance.

[FR Doc. E6-11864 Filed 7-24-06; 8:45 am]

BILLING CODE 4510-30-P